FEDERAL COMMUNICATIONS COMMISSION

47 CFR Parts 8, 64, and 76

[GN Docket No. 17-142; DA 21-1375; FR ID 57383]

Improving Competitive Broadband Access to Multiple Tenant Environments

AGENCY: Federal Communications Commission.

ACTION: Proposed rule; extension of reply comment period.

SUMMARY: In this document, the Wireline Competition Bureau (Bureau) of the Federal Communications Commission (Commission) grants a motion for extension of time in the 2021 Improving Competitive Broadband Access to Multiple Tenant Environments record update to extend the reply comment deadline.

DATES: Reply comments are due on or before November 19, 2021.

ADDRESSES: You may submit comments, identified by GN Docket No. 17-142, by any of the following methods:

• Electronic Filers: Comments may be filed electronically using the internet by accessing ECFS: https://www.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, 35 FCC Rcd 2788 (Mar. 19, 2020), https://www.fcc.gov/document/fcc-closes-headquarters-open-window-and-changes-hand-delivery-policy.

People with Disabilities: To request materials in accessible formats for people with disabilities (braille, large print, electronic files, audio format), send an email to fcc504@fcc.gov or call the Consumer & Government Affairs Bureau at (202) 418-0530.

FOR FURTHER INFORMATION CONTACT: Jesse Goodwin, Attorney Advisor, Competition Policy Division, Wireline Competition Bureau, at (202) 418-0958, or email: Benjamin.Goodwin@fcc.gov.

SUPPLEMENTARY INFORMATION: This is a summary of the Commission's Order, DA 21-1375, in GN Docket No. 17-142, adopted and released on November 3, 2021. The complete text of this document is available for download at https://www.fcc.gov/document/wcb-extends-reply-deadline-multi-tenant-buildings-public-notice. To request materials in accessible formats for people with disabilities (Braille, large print, electronic files, audio format), send an email to fcc504@fcc.gov or call the Consumer and Governmental Affairs Bureau at (202) 418-0530 (voice), (202) 418-0432 (TTY).

Synopsis

By this Order, the Wireline Competition Bureau (Bureau) grants a 15-day extension of time for filing reply comments to a public notice seeking to refresh the record in the above-captioned proceeding. As a result, reply comments are now due on or before November 19, 2021.

On September 7, 2021, the Commission released the Improving Competitive Broadband Access to Multiple Tenant Environments Public Notice (MTEs Public Notice), seeking to refresh the record in this proceeding following a 2019 Notice of Proposed Rulemaking. The MTEs Public Notice set deadlines for filing comments and reply comments at 30 and 45 days, respectively, after a summary of the item was published in the Federal Register. The Federal Register published that summary on September 20, 2021, and established deadlines of October 20, 2021, and November 4, 2021, for filing comments and reply comments, respectively. See 86 FR 52120 (Sept. 20, 2021)

On October 27, 2021, NCTA filed a Request for Extension of Time seeking a 30-day extension of the reply comment deadline. NCTA observes that “questions posed by the Public Notice raised complex and important issues regarding the broadband services in MTEs and how best to foster competition in that market, and a large array of stakeholders filed comments in response.” It argues that due to the “volume and complexity of the record”—which includes numerous comments from a variety of different stakeholders that raise issues ranging from technical network configurations and the interplay between federal, state, and local regulatory schemes—more time is needed to review and respond. NCTA asserts that “granting a modest extension” would provide “sufficient opportunity for all interested parties to fully assess the arguments raised by commenters [which] is important to ensure the Commission has a complete record on which to act.” NCTA also contends that allotting additional time “will assist the Commission as it considers ways to advance its goals of bridging the digital divide and facilitating enhanced broadband deployment in MTEs.” No party has filed an opposition to NCTA's request.

As set forth in § 1.46 of the Commission's rules, it is the policy of the Commission that extensions of time shall not be routinely granted. In this case, however, NCTA has demonstrated that a limited extension of time is warranted to allow interested parties to address the complex issues raised by commenters representing a diverse set of stakeholders. Moreover, in refreshing the record, the Bureau sought to develop a more complete understanding of the issues previously raised in the 2019 Notice of Proposed Rulemaking. Providing additional time for replies should improve the quality of reply comments and therefore strengthen the Bureau's understanding of the relevant issues. At the same time, we find the 30-day extension that NCTA requested would unduly delay Commission consideration of the important issues raised in this proceeding. The 45-day reply period that NCTA requests would be unusual, and we find that a more typical 30-day reply period appropriately balances providing interested parties adequate time to prepare replies with allowing the proceeding to advance expeditiously. We therefore find that there is good cause for an extension of the reply comment deadline and that the public interest will be served by extending the reply comment deadline by 15 days to November 19, 2021.

Ex Parte Rules

This proceeding shall be treated as a “permit-but-disclose” proceeding in accordance with the Commission's ex parte rules. See 47 CFR 1.1200 et seq. Persons making ex parte presentations must file a copy of any written presentation or a memorandum summarizing any oral presentation within two business days after the presentation (unless a different deadline applicable to the Sunshine period applies). Persons making oral ex parte presentations are reminded that memoranda summarizing the presentation must: (1) List all persons attending or otherwise participating in the meeting at which the ex parte presentation was made; and (2) summarize all data presented and arguments made during the presentation. If the presentation consisted in whole or in part of the presentation of data or arguments already reflected in the presenters written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the rules or for which the Commission has made available a method of electronic filing, written ex parte presentations and memoranda summarizing oral ex parte presentations, and all attachments thereto, must be filed through the electronic comment filing system available for that proceeding, and must be filed in their native format (e.g., .doc, .xml., .ppt, searchable .pdf). See 47 CFR 1.1206(b). Participants in this proceeding should familiarize themselves with the Commission's ex parte rules.

Ordering Clauses

Accordingly, it is ordered that, pursuant to §§ 0.204, 0.291, and 1.46 of the Commission's rules, 47 CFR 0.204, 0.291, 1.46, that the Motion for Extension of Time filed by the NCTA on October 27, 2021, is granted to the extent described herein.

It is further ordered, that the date for filing reply comments on the MTEs Public Notice is extended to November 19, 2021.

Federal Communications Commission.
Daniel Kahn,
Associate Bureau Chief, Wireline Competition Bureau.

[FR Doc. 2021-24669 Filed 11-10-21; 8:45 am]

BILLING CODE 6712-01-P